DEPARTMENT OF TRANSPORTATION

Surface Transportation Board

[Docket No. FD 35897]

R. J. Corman Railroad Company/Carolina Lines, LLC—Acquisition and Operation Exemption—The Baltimore and Annapolis Railroad Company d/b/a Carolina Southern Railroad Company

AGENCY: Surface Transportation Board, DOT.

ACTION: Correction to notice of exemption.

On January 12, 2015, R. J. Corman Railroad Company/Carolina Lines, LLC (RJC-Carolina), a noncarrier, filed a verified notice of exemption under 49 CFR 1150.31 to acquire from The Baltimore and Annapolis Railroad Company d/b/a Carolina Southern Railroad Company (CALA) and operate two interconnected rail lines totaling approximately 74.9 miles in North Carolina and South Carolina (the Line). RJC-Carolina stated that the Line extends from: (1) Milepost AL 326.0, at Mullins, S.C., to milepost AC 290.0, at Whiteville, N.C.; and (2) milepost ACH 297.2, at Chadbourn, N.C., to milepost ACH 336.1, at Conway, S.C. RJC-Carolina also sought to acquire one mile of incidental, local trackage rights from CALA, extending between milepost AC 290.0 and milepost AC 289.0, at or near Whiteville.¹ On January 28, 2015, notice of the exemption was served and published in the Federal Register (80 FR 4634). The exemption became effective on February 11, 2015.

¹ This transaction is related to a concurrently filed verified notice of exemption in R.J. Corman Railroad Group—Continuance in Control Exemption—R.J. Corman Railroad/Carolina Lines, Docket No. FD 35898, in which R.J. Corman Railroad Group, LLC, and R.J. Corman Railroad Company, LLC, sought Board approval under 49 CFR 1180.2(d)(2) to continue in control of RJC-Carolina upon RJC-Carolina's becoming a Class III rail carrier.

On October 5, 2015, RJC-Carolina filed a letter stating that milepost ACH 336.1 should have been more precisely stated as ACH 336.18. As a result, RJC-Carolina states that the total length of the Line is approximately 74.98 miles as opposed to 74.9 miles. This notice corrects the description of the milepost and total length of the Line. All other information in the notice is correct.

Board decisions and notices are available on our Web site at www.stb.dot.gov.

Decided: November 20, 2015.
By the Board, Rachel D. Campbell, Director, Office of Proceedings.
Jeffrey Herzig,
Clearance Clerk.

[FR Doc. 2015-30080 Filed 11-25-15; 8:45 am]

BILLING CODE 4915-01-P